DEPARTMENT OF THE INTERIOR

National Park Service

[NPS-WASO-NAGPRA-12142; 2200-1100-665]

Notice of Intent To Repatriate Cultural Items: Rochester Museum & Science Center, Rochester, NY

AGENCY: National Park Service, Interior.

ACTION: Notice.

SUMMARY: The Rochester Museum & Science Center, in consultation with the appropriate Indian tribe, has determined that the cultural items listed meet the definition of sacred objects and objects of cultural patrimony and repatriation to the Indian tribe stated below may occur if no additional claimants come forward. Representatives of any Indian tribe that believes itself to be culturally affiliated with the cultural items may contact the Rochester Museum & Science Center.

DATES: Representatives of any Indian tribe that believes it has a cultural affiliation with the cultural items should contact the Rochester Museum & Science Center at the above address by March 21, 2013.

ADDRESSES: George C. McIntosh, Director of Collections, Rochester Museum & Science Center, 657 East Ave., Rochester, NY 14607, telephone (585) 697-1906.

SUPPLEMENTARY INFORMATION: Notice is here given in accordance with the Native American Graves Protection and Repatriation Act (NAGPRA), 25 U.S.C. 3005, of the intent to repatriate six cultural items in the possession of the Rochester Museum & Science Center that meet the definitions of sacred objects and objects of cultural patrimony under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

History and Description of the Cultural Items

Traditional religious leaders from the Tonawanda Band of Seneca (previously listed as the Tonawanda Band of Seneca Indians of New York) have identified six wampum items as being needed for the practice of traditional Native American religions by present-day adherents. In the course of consultations with tribal NAGPRA representatives, it was shown that individuals who sold or donated the wampum items did not have the authority to alienate them to a third party or sell them directly to the Rochester Museum & Science Center. Museum documentation, supported by oral evidence presented during consultation, indicates that the following six wampum items are culturally affiliated with the Tonawanda Band of Seneca (previously listed as the Tonawanda Band of Seneca Indians of New York):

(1) Invitation wampum, tally stick with 11 notches cut into it with four attached strands of purple and white shell bead wampum, collected by James P. Ditmars, Geneva, NY and purchased by George S. Conover, AE145/27.89.8;

(2) Council wampum composed of three strands of white glass and purple and white shell beads collected by Arthur C. Parker on the Tonawanda Reservation, AE2050/30.376.22;

(3) “Name Necklace” wampum composed of a 34 inch-long single strand of predominantly purple with several white shell beads collected by Laura Parker Doctor on the Tonawanda Reservation, AE2051/29.288.2;

(4) Condolence wampum composed of 16 strands of purple and white shell beads, “used by Iroquois council in raising up civil chiefs,” collected by Everett R. Burmaster on the Tonawanda Reservation and purchased by Arthur C. Parker in 1934, AE2525/34.149.1;

(5) Council wampum composed of seven 18 inch-long strands of purple and white shell beads tied to a section of buckskin by a few pieces of red ribbon decorated with white glass beads, purchased from Robert Tahamont by Arthur C. Parker in 1935, and museum records state the wampum was from “village of Big Kettle, descendant of Sappy Jones” and “[t]he string traveled from Jones Bridge to Mt Morris,” AE2960/35.173.1; and

(6) Gaiwiyo wampum, composed of 11-inch strands of white and purple shell beads collected by Arthur C. Parker on the Tonawanda Reservation in 1934, and museum records state “[u]sed by Indian Priest in preaching code of Handsome Lake,” AE 2970/34.163.1.

Determination Made by the Rochester Museum & Science Center

Officials of the Rochester Museum & Science Center have determined that:

• Pursuant to 25 U.S.C. 3001(3)(C), the six cultural items described above are specific ceremonial objects needed by traditional Native American religious leaders for the practice of traditional Native American religions by their present-day adherents.

• Pursuant to 25 U.S.C. 3001(3)(D), the six cultural items described above have ongoing historical, traditional, or cultural importance central to the Native American group or culture itself, rather than property owned by an individual.

• Pursuant to 25 U.S.C. 3001(2), there is a relationship of shared group identity that can be reasonably traced between the sacred objects and objects of cultural patrimony and the Tonawanda Band of Seneca (previously listed as the Tonawanda Band of Seneca Indians of New York).

Additional Requestors and Disposition

Representatives of any other Indian tribe that believes itself to be culturally affiliated with the sacred objects and objects of cultural patrimony should contact George C McIntosh, Director of Collections, Rochester Museum & Science Center, 657 East Ave., Rochester, NY 14607, telephone (585) 697-1906 before March 21, 2013. Repatriation of the sacred objects and objects of cultural patrimony to the Tonawanda Band of Seneca (previously listed as the Tonawanda Band of Seneca Indians of New York) may proceed after that date if no additional claimants come forward.

The Rochester Museum & Science Center is responsible for notifying the Tonawanda Band of Seneca (previously listed as the Tonawanda Band of Seneca Indians of New York) that this notice has been published.

Dated: January 17, 2013.
Melanie O'Brien,
Acting Manager, National NAGPRA Program.

[FR Doc. 2013-03660 Filed 2-15-13; 8:45 am]

BILLING CODE 4312-50-P